NUCLEAR REGULATORY COMMISSION

Regulatory Guide: Issuance, Availability

The U.S. Nuclear Regulatory Commission (NRC) has issued a new guide in the agency's Regulatory Guide Series. This series has been developed to describe and make available to the public such information as methods that are acceptable to the NRC staff for implementing specific parts of the NRC's regulations, techniques that the staff uses in evaluating specific problems or postulated accidents, and data that the staff needs in its review of applications for permits and licenses.

Regulatory Guide 1.205, “Risk-Informed, Performance-Based Fire Protection for Existing Light-Water Nuclear Power Plants,” provides guidance for use in complying with the requirements that the NRC has promulgated for risk-informed, performance-based fire protection programs that meet the requirements of Title 10, § 50.48(c), of the Code of Federal Regulations (10 CFR 50.48(c)) and the referenced 2001 Edition of the National Fire Protection Association (NFPA) standard, NFPA 805, “Performance-Based Standard for Fire Protection for Light-Water Reactor Electric Generating Plants.”

In accordance with 10 CFR 50.48(a), each operating nuclear power plant must have a fire protection plan that satisfies General Design Criterion (GDC) 3, “Fire Protection,” of Appendix A, “General Design Criteria for Nuclear Power Plants,” to 10 CFR part 50, “Domestic Licensing of Production and Utilization Facilities.” In addition, plants that were licensed to operate before January 1, 1979, must meet the requirements of 10 CFR part 50, Appendix R, “Fire Protection Program for Nuclear Power Facilities Operating Prior to January 1, 1979,” except to the extent provided for in 10 CFR 50.48(b). Plants licensed to operate after January 1, 1979, are required to comply with 10 CFR 50.48(a), as well as any plant-specific fire protection license condition and technical specifications.

Section 50.48(c), which the NRC adopted in 2004 (69 FR 33536, June 16, 2004), incorporates NFPA 805 by reference, with certain exceptions, and allows licensees to voluntarily adopt and maintain a fire protection program that meets the requirements of NFPA 805 as an alternative to meeting the requirements of 10 CFR 50.48(b) or the plant-specific fire protection license conditions. Licensees who choose to comply with 10 CFR 50.48(c) must submit a license amendment application to the NRC, in accordance with 10 CFR 50.90. Section 50.48(c)(3) describes the required content of the application.

The Nuclear Energy Institute (NEI) has developed NEI 04-02, “Guidance for Implementing a Risk-Informed, Performance-Based Fire Protection Program Under 10 CFR 50.48(c),” Revision 1, dated September 2005, to assist licensees in adopting 10 CFR 50.48(c) and making the transition from their current fire protection program (FPP) to one based on NFPA 805. This regulatory guide endorses NEI 04-02, Revision 1, because it provides methods acceptable to the NRC for implementing NFPA 805 and complying with 10 CFR 50.48(c), subject to the additional regulatory positions contained in Section C of this regulatory guide and the approval authority that 10 CFR 50.48(c) grants to the authority having jurisdiction (AHJ). The regulatory positions in Section C include clarification of the guidance provided in NEI 04-02, as well as any NRC exceptions to the guidance. The regulatory positions in Section C take precedence over the NEI 04-02 guidance.

All references to NEI 04-02 in this regulatory guide refer to Revision 1 of NEI 04-02. All references to NFPA 805 in this regulatory guide refer to the 2001 Edition of NFPA.

The NRC previously solicited public comment on this new guide by publishing a Federal Register notice (69 FR 60192) concerning Draft Regulatory Guide DG-1139 on October 7, 2004. Following the closure of the public comment period on December 15, 2004, the staff considered all stakeholder comments in the course of preparing Regulatory Guide 1.205. The NRC staff's responses to public comments received on the draft regulatory guide are available electronically in the NRC's Agencywide Documents Access and Management System (ADAMS) at http://www.nrc.gov/reading-rm/adams.html, under Accession #ML061100235. In particular, the revisions in this new guide include additional guidance regarding the plant change process, including risk acceptance thresholds for changes that may be made without prior NRC review and approval. In addition, this new guide includes guidance for the fire probabilistic safety analyses that licensees use to risk-inform the fire protection program.

The NRC staff encourages and welcomes comments and suggestions in connection with improvements to published regulatory guides, as well as items for inclusion in regulatory guides that are currently being developed. You may submit comments by any of the following methods.

Mail comments to: Rules and Directives Branch, Office of Administration, U.S. Nuclear Regulatory Commission, Washington, DC 20555-0001.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission, at (301) 415-5144.

Requests for technical information about Regulatory Guide 1.205 may be directed to Paul W. Lain at (301) 415-2346 or via e-mail to PWL@nrc.gov.

Regulatory guides are available for inspection or downloading through the NRC's public Web site in the Regulatory Guides document collection of the NRC's Electronic Reading Room at http://www.nrc.gov/reading-rm/doc-collections. Regulatory Guide 1.205 is also available electronically in the NRC's Agencywide Documents Access and Management System (ADAMS) at http://www.nrc.gov/reading-rm/adams.html, under Accession #ML061100174.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated at Rockville, Maryland, this 26th day of May, 2006.
For the U.S. Nuclear Regulatory Commission,
Brian W. Sheron,
Director, Office of Nuclear Regulatory Research.

[FR Doc. E6-8706 Filed 6-5-06; 8:45 am]

BILLING CODE 7590-01-P